DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Wednesday, October 12, 2011: 8 a.m.-3 p.m.

ADDRESSES: Lawrence Livermore National Laboratory, 7000 East Avenue, Livermore, CA 94550.

FOR FURTHER INFORMATION CONTACT: Amy Bodette, Designated Federal Officer, U.S. Department of Energy, 1000 Independence Avenue, SW., Washington, DC 20585; telephone (202) 586-0383 or facsimile (202) 586-1441; e-mail at: seab@hq.doe.gov.

SUPPLEMENTARY INFORMATION: Background: The Board was reestablished to provide advice and recommendations to the Secretary on the Department's basic and applied research, economic and national security policy, educational issues, operational issues, and other activities as directed by the Secretary.

Purpose of the Meeting: This is one of the quarterly meetings of the Board. This meeting will provide briefings to the Board and an opportunity for the subcommittees to report on their progress.

Tentative Agenda: The meeting will start at 8 a.m. on October 12, 2011, and will serve as an update meeting for the Board. The tentative meeting agenda includes opening remarks from the Secretary, briefings from the Lab, reports on planned activities from subcommittees, and an opportunity for public comment. The meeting will conclude at 3 p.m.

Public Participation: The meeting is open to the public. Individuals who would like to attend must RSVP to Amy Bodette no later than 5 p.m. on Friday, October 7, 2011, by e-mail at: seab@hq.doe.gov. Please provide your name, organization, citizenship, and contact information. Anyone attending the meeting will be required to present government issued identification. Individuals and representatives of organizations who would like to offer comments and suggestions may do so at the end of the meeting on Wednesday, October 12, 2011. Approximately 30 minutes will be reserved for public comments. Time allotted per speaker will depend on the number who wish to speak, but will not exceed 5 minutes. The Designated Federal Officer is empowered to conduct the meeting in a fashion that will facilitate the orderly conduct of business. Those wishing to speak are required to register and may do so beginning at 8 a.m. on October 12, 2011.

Those not able to attend the meeting or have insufficient time to address the committee are invited to send a written statement to Amy Bodette, U.S. Department of Energy, 1000 Independence Avenue, SW., Washington DC 20585, or e-mail to: seab@hq.doe.gov.

Minutes: The minutes of the meeting will be available on the SEAB Web site http://www.energy.gov/SEAB or by contacting Ms. Bodette. She may be reached at the postal address or e-mail address above.

Issued in Washington, DC on September 22, 2011.
LaTanya Butler,
Acting Deputy Committee Management Officer.

[FR Doc. 2011-24926 Filed 9-27-11; 8:45 am]

BILLING CODE 6450-01-P